DEPARTMENT OF COMMERCE

National Oceanic and Atmospheric Administration

[I.D. 082900B]

Mid-Atlantic Fishery Management Council; Public Meeting

AGENCY: National Marine Fisheries Service (NMFS), National Oceanic and Atmospheric Administration (NOAA), Commerce

ACTION: Notice of public meeting.

SUMMARY: The Mid-Atlantic Fishery Management Council’s (Council) Squid, Mackerel, and Butterfish Monitoring Committee will hold a public meeting.

DATES: The meeting will be held on Wednesday, September 20, 2000, from 10 a.m. until 5 p.m.

ADDRESSES: This meeting will be held in the Aquarium Conference Center of the NMFS Northeast Fisheries Science Center, 166 Water Street, Woods Hole, MA; telephone: 508-495-2373.

Council address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of this meeting is to consider in-season adjustment to the 2000 Loligo quota.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council’s intent to take final action to address the emergency.

Special Accommodations

This meeting is physically accessible to people with disabilities. Requests for sign language interpretation or other auxiliary aids should be directed to Joanna Davis at the Council Office (see ADDRESSES) at least 5 days prior to the meeting date.

Dated: August 29, 2000.
Richard W. Surdi,
Acting Director, Office of Sustainable Fisheries, National Marine Fisheries Service.

[FR Doc. 00-22680 Filed 9-1-00; 8:45 am]

BILLING CODE: 3510-22-S